DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on September 15-16, 2008, at the DoubleTree Hotel Albuquerque, 201 Marquette, NW., Albuquerque, New Mexico. On September 15, the session will convene at 8 a.m. and end at 4 p.m. On September 16, the session will convene at 8 a.m. and end at 2:30 p.m. The meeting is open to the public.

The purpose of the Committee is to provide the Secretary of Veterans Affairs with an ongoing assessment of the effectiveness of the policies, organizational structures, and services of the Department in assisting homeless veterans. The Committee shall assemble and review information relating to the needs of homeless veterans and provide advice on the most appropriate means of offering assistance to homeless veterans. The Committee will make recommendations to the Secretary regarding such activities.

On September 15, the Committee will review the responses to the recommendations contained in the 2008 Annual Report of the Advisory Committee on Homeless Veterans (which was submitted to the Secretary in the spring of 2008). The Committee will also receive briefings from VA and other federal departments on programs and activities affecting homeless veterans. On September 16, the Committee will continue to receive informational presentations and will begin its discussion of recommendations to be included in the upcoming annual report.

Those wishing to attend the meeting should contact Mr. Pete Dougherty, Designated Federal Officer, at (202) 461-7401. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: August 8, 2008.
By Direction of the Secretary.
E. Philip Riggin,
Committee Management Officer.

[FR Doc. E8-18786 Filed 8-13-08; 8:45 am]

BILLING CODE 8320-01-P